DEPARTMENT OF TRANSPORTATION

Federal Aviation Administration

Environmental Impact Statement: Juneau International Airport; Juneau, Alaska

AGENCY: Federal Aviation Administration (FAA) DOT.

ACTION: Notice of intent.

SUMMARY: The Federal Aviation Administration announces that it will prepare an Environmental Impact Statement (EIS) for implementation of projects proposed in the Master Plan for Juneau International Airport.

FOR FURTHER INFORMATION CONTACT: Patti Sullivan, Federal Aviation Administration, Alaskan Regional Airports Division, 222 West 7th Avenue, #14, Anchorage, Alaska 99513-7587; Telephone (907) 271-5454.

SUPPLEMENTARY INFORMATION: The Federal Aviation Administration will prepare and consider an EIS for implementation of proposed projects in the Master Plan Update for Juneau International Airport.

The Juneau International Airport Board completed its Master Plan Update in 1999. The Master Plan was accepted by the FAA in June of 2000. The Airport Layout Plan was conditionally approved November 24, 1999, subject to environmental analysis. Major airfield improvements proposed in the Master Plan and to be assessed in the EIS are a full Runway Safety Area, the east aviation development area, a snow removal equipment building, and an approach light system.

The Juneau International Airport Board conducted numerous workshops and a public hearing during the development of the Master Plan Study. To ensure that the full range of issues related to the proposed projects are addressed and that all significant issues are identified, the FAA intends to consult and coordinate with Federal, State, and local agencies which have jurisdiction by law or have specific expertise with respect to any environmental impacts associated with the proposed projects. The public and agency scoping meetings will be scheduled at a later date. Notification of the meetings will be published in the Juneau Empire and the Federal Register. In addition to providing input at the public scoping meeting, the public may submit written comments on the scope of the environmental study to the address in FOR FURTHER INFORMATION CONTACT. Comments should be submitted within 30 days of the publication of this Notice.

Issued on August 1, 2000 in Anchorage, Alaska.
Ronnie V. Simpson,
Manager, Alaskan Region Airports Division.

[FR Doc. 00-20456 Filed 8-10-00; 8:45 am]

BILLING CODE 4910-13-M